NATIONAL TRANSPORTATION SAFETY BOARD

Sunshine Act Meeting

TIME AND DATE: 9:30 a.m., Tuesday, November 28, 2000.

PLACE: NTSB Board Room, 429 L'Enfant Plaza, S.W., Washington, D.C. 20594.

STATUS: The first two items are Open to the Public. The last item is closed under Exemption 10 of the Government in the Sunshine Act.

MATTERS TO BE CONSIDERED:

7309 Factual Report and Brief of Accident: Learjet Model 35, N47BA, near Aberdeen, South Dakota, October 25, 1999, operated by Sunjet Aviation; and Safety Recommendation to the Federal Aviation Administration (FAA) regarding methods to ensure an effective response to a cabin depressurization event, including training and education, procedures and checklists, and aircraft systems.

7308 Pipeline Accident Report: Natural Gas Service Line Rupture and Subsequent Explosion and Fire in Bridgeport, Alabama on January 22, 1999.

7280 Opinion and Order: Administrator v. Morris and Wallace, Dockets SE-15135 and SE-15136; disposition of respondent's appeal.

NEWS MEDIA CONTACT: Telephone: (202) 314-6100.

Individuals requesting specific accommodation should contact Mrs. Barbara Bush at (202) 314-6220 by Friday, November 24, 2000.

FOR MORE INFORMATION CONTACT: Rhonda Underwood (202) 314-6065.

Dated: November 17, 2000.
Rhonda Underwood,
Federal Register Liaison Officer.

[FR Doc. 00-29927 Filed 11-17-00; 3:35 pm]

BILLING CODE 7533-01-P